DEPARTMENT OF COMMERCE

First Responder Network Authority

National Telecommunications and Information Administration

First Responder Network Authority Board Meetings

AGENCY: First Responder Network Authority (FirstNet), U.S. Department of Commerce.

ACTION: Notice of public meetings.

SUMMARY: The Board of the First Responder Network Authority (FirstNet) will convene an open public teleconference and webinar on March 16, 2016.

DATES: On March 16, 2016, from 12 noon to 4 p.m. EDT, FirstNet's four Board Committees and the full FirstNet Board will hold an open public teleconference and webinar.

ADDRESSES: The meeting will be held via webinar and the link can be found at http://www.firstnet.gov/content/firstnet-board-meeting-march-16-2016.

FOR FURTHER INFORMATION CONTACT: Natasha C. Robinson Coates, Senior Counsel, FirstNet, 12201 Sunrise Valley Drive, Mail Stop 243, Reston, Virginia 20192; telephone: (571) 665-6139; email: natasha.coates@firstnet.gov. Please direct media inquiries to Ryan Oremland at (571) 665-6186.

SUPPLEMENTARY INFORMATION: This notice informs the public that the Board of FirstNet and the Board Committees will convene an open public meeting on March 16, 2016.

Background: The Middle Class Tax Relief and Job Creation Act of 2012 (Act), Public Law 112-96, 126 Stat. 156 (2012), established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters to be Considered: FirstNet will post detailed agendas of each meeting on its Web site, http://www.firstnet.gov, prior to the meetings. The agenda topics are subject to change. Please note that the subjects that will be discussed by the Committees and the Board may involve commercial or financial information that is privileged or confidential, personnel matters, or other legal matters affecting FirstNet. As such, the Committee chairs and Board Chair may call for a vote to close the meetings only for the time necessary to preserve the confidentiality of such information, pursuant to 47 U.S.C. 1424(e)(2).

Times and Dates of Meetings: On March 16, 2016, from 12 noon to 4 p.m. EDT, FirstNet's four Board Committees and the full FirstNet Board will hold an open public teleconference and webinar.

Place: The meeting will be held via webinar and the link can be found at http://www.firstnet.gov/content/firstnet-board-meeting-march-16-2016.

Other Information: These meetings are open to the public and press via teleconference and webcast. In order to get an accurate headcount, all expected attendees are asked to provide notice of intent to attend by sending an email to BoardRSVP@firstnet.gov.

The meetings are accessible to people with disabilities. Individuals requiring accommodations, such as sign language interpretation or other ancillary aids, are asked to notify Monica Welham, Executive Assistant, FirstNet, at (571) 665-6144 or monica.welham@firstnet.gov, at least five (5) business days before the applicable meeting(s).

The meetings will also be available to interested parties by phone. To be connected to the meetings in listen-only mode by telephone, please dial 800-857-5096 and passcode 4421198.

Records: FirstNet maintains records of all Board proceedings. Minutes of the Board Meeting and the Committee meetings will be available at www.firstnet.gov.

Dated: March 3, 2016.
Kris Finney,
Attorney Advisor, First Responder Network Authority.

[FR Doc. 2016-05153 Filed 3-7-16; 8:45 am]

BILLING CODE 3510-TL-P